DEPARTMENT OF HEALTH AND HUMAN SERVICES

Centers for Medicare & Medicaid Services

[Document Identifier CMS-10404 and CMS-10209]

Agency Information Collection Activities: Submission for OMB Review; Comment Request

AGENCY: Centers for Medicare & Medicaid Services, HHS.

In compliance with the requirement of section 3506(c)(2)(A) of the Paperwork Reduction Act of 1995, the Centers for Medicare & Medicaid Services (CMS), Department of Health and Human Services, is publishing the following summary of proposed collections for public comment. Interested persons are invited to send comments regarding this burden estimate or any other aspect of this collection of information, including any of the following subjects: (1) The necessity and utility of the proposed information collection for the proper performance of the Agency's function; (2) the accuracy of the estimated burden; (3) ways to enhance the quality, utility, and clarity of the information to be collected; and (4) the use of automated collection techniques or other forms of information technology to minimize the information collection burden.

1. Type of Information Collection Request: New collection; Title of Information Collection: National Balancing Indicators Project (NBIP) Direct Service Workforce Data Collection Effort; Use: The overall purpose of this project is to assist CMS State Profiling Tool (SPT) grantees to collect core direct service workforce data elements by population and setting and build the infrastructure needed to track these workforce indicators over time; Form Number: CMS-10404 (OMB 0938-New); Frequency: Once; Affected Public: Private Sector (business or other for-profit and not-for-profit institutions) and Individuals; Number of Respondents: 68,160; Total Annual Responses: 68,160 (one-time); Total Annual Hours: 57,038. (For policy questions regarding this collection contact Jean Accius at (410) 786-3270. For all other issues call (410) 786-1326.)

2. Type of Information Collection Request: Reinstatement with change of previously approved collection; Title of Information Collection: Medicare Advantage Chronic Care Improvement Program and Quality Improvement Project Reporting Tools; Use: Section 1852e(1), (2), (3)(a)(i) of the Social Security Act and 42 CFR 422.152 of the regulations describe CMS' regulatory authority to require each Medicare Advantage Organization (MAO) coordinated care plan that offers one or more MA plans to have an ongoing quality assessment and performance improvement program. This program must include assessing performance using standard measures required by the Center for Medicare and Medicaid Services (CMS), and reporting its performance to CMS.

MAOs will submit their Chronic Care Improvement Programs (CCIPs) and Quality Improvement Project (QIPs) using the revised CCIP and QIP Reporting Tools that are included in this collection. The tools have been redesigned: (1) To decrease the response burden through limiting the amount of narrative required and using an automated system; (2) to be more aligned with the standard QI reporting format; and (3) to improve the information provided by MAOs by using more structured reporting tools. CMS believes the new reporting tools will provide a simpler, easier way for MAOs to report the required data. The new tool will also generate consistency in reporting among plans so that collected data can be used more efficiently by CMS and the plans.

Based on feedback received during the 60-day comment period, CMS has increased the burden hours to complete each reporting tool from 5 hours to 15 hours Form Number: CMS-10209 (OMB # 0938-1023); Frequency: Yearly; Affected Public: Private Sector—Business or other for-profits and Not-for-profit institutions; Number of Respondents: 1,904; Total Annual Responses: 1,904; Total Annual Hours: 28,560. (For policy questions regarding this collection contact Letticia Ramsey at (410) 786-5262. For all other issues call (410) 786-1326.)

To obtain copies of the supporting statement and any related forms for the proposed paperwork collections referenced above, access CMS Web Site address at http://www.cms.hhs.gov/PaperworkReductionActof1995, or Email your request, including your address, phone number, OMB number, and CMS document identifier, to Paperwork@cms.hhs.gov, or call the Reports Clearance Office on (410) 786-1326.

To be assured consideration, comments and recommendations for the proposed information collections must be received by the OMB desk officer at the address below, no later than 5 p.m. on December 5, 2011.

OMB, Office of Information and Regulatory Affairs, Attention: CMS Desk Officer, Fax Number: (202) 395-6974, Email: OIRA_submission@omb.eop.gov.

Dated: November 1, 2011.
Martique Jones,
Director, Regulations Development Group, Division B, Office of Strategic Operations and Regulatory Affairs.

[FR Doc. 2011-28618 Filed 11-3-11; 8:45 am]

BILLING CODE 4120-01-P